DEPARTMENT OF HEALTH AND HUMAN SERVICES

Centers for Disease Control and Prevention

Public Health Service Act (PHS), Delegation of Authority

Notice is hereby given that I have delegated to the Director, National Institute for Occupational Safety and Health, Centers for Disease Control and Prevention (CDC), without authority to redelegate, all authorities vested in the Secretary, under Sections 2695G-2695I, Title XXVI of the PHS Act (42 U.S.C. 300ff-138-300ff-140), as amended. This may not be redelegated.

This delegation is effective upon date of signature. In addition, I hereby affirm and ratify any actions taken by you or your subordinates which involved the exercise of the authorities delegated herein prior to the effective date of this delegation.

Dated: June 8, 2022.
Xavier Becerra,
Secretary.

[FR Doc. 2022-12835 Filed 6-14-22; 8:45 am]

BILLING CODE 4163-18-P